ENVIRONMENTAL PROTECTION AGENCY

[FRL-9923-33-OA]

Meetings of the Small Community Advisory Subcommittee and the Local Government Advisory Committee

AGENCY: Environmental Protection Agency (EPA).

ACTION: Notice; announcement of meetings.

SUMMARY: The Small Community Advisory Subcommittee (SCAS) will meet via teleconference on Tuesday, March 10, 2015, 1:00 p.m.-2:00 p.m. (EST). The Subcommittee will discuss an EPA Rural Strategy and other small community issues. This is an open meeting. Individuals or organizations wishing to address the Subcommittee meeting will be allowed a maximum of five minutes to present their point of view on issues pertaining to small communities.

The Local Government Advisory Committee (LGAC) will meet via teleconference on Tuesday, March 10, 2015, 2:00 p.m.-3:00 p.m. (EST). The Committee meeting will focus on the Small Community Advisory Subcommittee's action on an EPA Rural Strategy and other LGAC Workgroup actions such as a Water Infrastructure and Resiliency Finance Center, and other LGAC actions.

These are open meetings, and all interested persons are invited to participate. The Subcommittee will hear comments from the public on Tuesday, March 10, 2015, 1:15 p.m.-1:30 p.m. (EST) and the Committee will hear comments from the public 2:15 p.m.-2:30 p.m. (EST) on Tuesday, March 10, 2015. Individuals or organizations wishing to address the Subcommittee or the Committee will be allowed a maximum of five minutes to present their point of view. Also, written comments should be submitted electronically to eargle.frances@epa.gov. Please contact the Designated Federal Officer (DFO) at the number listed below to schedule a time on the agenda. Time will be allotted on a first-come first-serve basis, and the total period for comments may be extended if the number of requests for appearances requires it.

ADDRESSES: The Small Communities Advisory Subcommittee and Local Government Advisory Committee meetings will meet via teleconference. Meeting summaries will be available after the meeting online at www.epa.gov/ocir/scas_lgac/lgac_index.htm and can be obtained by written request to the DFO.

FOR FURTHER INFORMATION CONTACT: Local Government Advisory Committee (LGAC) and Small Communities Advisory Subcommittee (SCAS), contact Frances Eargle, Designated Federal Officer, at (202) 564-3115 or email at eargle.frances@epa.gov.

Information on Services for Those with Disabilities: For information on access or services for individuals with disabilities, please contact Frances Eargle at (202) 564-3115 or email at eargle.frances@epa.gov. To request accommodation of a disability, please request it 10 days prior to the meeting, to give EPA as much time as possible to process your request.

Dated: February 10, 2015.
Frances Eargle,
Designated Federal Officer. Local Government Advisory Committee.

[FR Doc. 2015-03563 Filed 2-20-15; 8:45 am]

BILLING CODE 6560-50-P